DEPARTMENT OF TRANSPORTATION

Federal Aviation Administration

14 CFR Part 39

[Docket No. FAA-2005-20768; Directorate Identifier 2005-CE-16-AD; Amendment 39-14554; AD 2006-08-01]

RIN 2120-AA64

Airworthiness Directives; BURKHART GROB LUFT-UND-RAUMFAHRT GmbH & Co. KG, Model G 103 C Twin III SL Sailplanes

AGENCY: Federal Aviation Administration (FAA), DOT.

ACTION: Final rule.

SUMMARY: The FAA adopts a new airworthiness directive (AD) that supersedes AD 97-24-09, which applies to certain BURKHART GROB LUFT-UND-RAUMFAHRT GmbH & Co. KG (Grob) Model G 103 C Twin III SL sailplanes. AD 97-24-09 currently requires repetitively inspecting the propeller bearing and upper pulley wheel for increased play and, if increased play is found, modifying the propeller bearing and pulley wheel. This AD results from mandatory continuing airworthiness information (MCAI) issued by the airworthiness authority for Germany. Consequently, this AD requires you to modify the propeller bearing and upper pulley wheel by installing a new securing plate and tightening the grooved nut to the new torque values. We are issuing this AD to prevent loss of the sailplane propeller caused by increased play in the current design propeller bearing and upper pulley wheel. This could result in loss of control of the sailplane.

DATES: This AD becomes effective on May 9, 2006.

On January 5, 1998 (62 FR 62945, November 26, 1997), the Director of the Federal Register previously approved the incorporation by reference of GROB Luft-und Raumfahrt Service Bulletin No. 869-18, dated March 7, 1996, and GROB Luft-und Raumfahrt Service Bulletin No. 869-18/2, dated July 8, 1996.

As of May 9, 2006, the Director of the Federal Register approved the incorporation by reference of GROB Luft-und Raumfahrt Service Bulletin MSB869-18/3, dated May 24, 2002, in accordance with 5 U.S.C. 552(a) and 1 CFR part 51.

ADDRESSES: To get the service information identified in this AD, contact GROB Luft-und, Raumfahrt, Lettenbachstrasse 9, D-86874 tussenhausen-Mattsies, Federal Republic of Germany; telephone: +49 8268 998139; facsimile: +49 8268 998200.

To view the AD docket, go to the Docket Management Facility; U.S. Department of Transportation, 400 Seventh Street, SW., Nassif Building, Room PL-401, Washington, DC 20590-0001 or on the Internet at http://dms.dot.gov. The docket number is FAA-2005-20768; Directorate Identifier 2005-CE-16-AD.

FOR FURTHER INFORMATION CONTACT: Gregory A. Davison, Aerospace Engineer, ACE-112, Small Airplane Directorate, 901 Locust, Room 301, Kansas City, Missouri 64106; telephone: (816) 329-4130; facsimile: (816) 329-4149.

SUPPLEMENTARY INFORMATION:

Discussion

On June 15, 2005, we issued a proposal to amend part 39 of the Federal Aviation Regulations (14 CFR part 39) to include an AD that would apply to Grob Model G 103 C Twin III SL sailplanes. This proposal was published in the Federal Register as a notice of proposed rulemaking (NPRM) on June 21, 2005 (70 FR 35568). The NPRM proposed to supersede AD 97-24-09 with a new AD that would require you to modify the propeller bearing and upper pulley wheel by installing a new securing plate and tightening the grooved nut to the new torque values.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 8 sailplanes in the U.S. registry.

We estimate the following costs to do the modification:

Labor cost | Parts cost | Total cost per sailplane | Total cost on U.S. operators
6 workhours × $65 per hour = $390 | N/A | $390 | $3,120

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2005-20768; Directorate Identifier 2005-CE-16-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 97-24-09, Amendment 39-10216 (62 FR 62945, November 26, 1997), and by adding a new AD to read as follows:

2006-08-01 BURKHART GROB LUFT-UND RAUMFAHRT GMBH & CO. KG: Amendment 39-14554; Docket No. FAA-2005-20768; Directorate Identifier 2005-CE-16-AD.

Effective Date

(a) This AD becomes effective on May 9, 2006.

Affected ADs

(b) This AD supersedes AD 97-24-09, Amendment 39-10216.

Applicability

(c) This AD affects the Model G 103 C Twin III SL sailplanes, serial numbers 35002 through 35051, that are certificated in any category.

Unsafe Condition

(d) This AD is the result of increased play of the propeller bearing. The actions specified in this AD are intended to prevent loss of the sailplane propeller caused by increased play in the current design propeller bearing and upper pulley wheel. This could result in loss of control of the sailplane.

Compliance

(e) To address this problem, you must do the following:

Actions | Compliance | Procedures
Modify the propeller bearing and upper pulley wheel by installing a new securing plate, part number (P/N) 103SL-6400.12, and tightening the grooved nut, P/N 103SL-W-6400. Use the new torque values as specified in the GROB Luft-und Raumfahrt Service Bulletin MSB869-18/3, dated May 24, 2002 | Within 25 engine operating hours after May 9, 2006 (the effective date of this AD) | Follow GROB Luft-und Raumfahrt Service Bulletin No. 869-18, dated March 7, 1996 (including the reissued page 6 from GROB Luft-und Raumfahrt Service Bulletin No. 869-18/2, dated July 8, 1996, issued as a complement and a correction to GROB Luft-und Raumfahrt Service Bulletin No. 869-18, dated March 7, 1996) and GROB Luft-und Raumfahrt Service Bulletin MSB869-18/3, dated May 24, 2002. Use the new torque values as specified in the GROB Luft-und Raumfahrt Service Bulletin MSB869-18/3, dated May 24, 2002.

Alternative Method of Compliance

(f) The Manager, Standards Office, FAA, ATTN: Gregory A. Davison, Aerospace Engineer, ACE-112, Small Airplane Directorate, 901 Locust, Room 301, Kansas City, Missouri 64106; telephone: (816) 329-4130; facsimile: (816) 329-4149, has the authority to approve alternative methods of compliance (AMOCs) for this AD, if requested using the procedures found in 14 CFR 39.19.

Related Information

(g) LBA Airworthiness Directive 1996-206/3, dated August 22, 2002; GROB Luft-und Raumfahrt Service Bulletin No. 869-18, dated March 7, 1996; GROB Luft-und Raumfahrt Service Bulletin No. 869-18/2, dated July 8, 1996; and GROB Luft-und Raumfahrt Service Bulletin MSB869-18/3, dated May 24, 2002, also address the subject of this AD.

Material Incorporated by Reference?

(h) You must do the actions required by this AD following the instructions in GROB Luft-und Raumfahrt Service Bulletin No. 869-18, dated March 7, 1996; GROB Luft-und Raumfahrt Service Bulletin No. 869-18/2, dated July 8, 1996; and GROB Luft-und Raumfahrt Service Bulletin MSB869-18/3, dated May 24, 2002.

(1) On January 5, 1998 (62 FR 62945, November 26, 1997), the Director of the Federal Register previously approved the incorporation by reference of GROB Luft-und Raumfahrt Service Bulletin No. 869-18, dated March 7, 1996, and GROB Luft-und Raumfahrt Service Bulletin No. 869-18/2, dated July 8, 1996.

(2) As of May 9, 2006, the Director of the Federal Register approved the incorporation by reference of GROB Luft-und Raumfahrt Service Bulletin MSB869-18/3, dated May 24, 2002, in accordance with 5 U.S.C. 552(a) and 1 CFR part 51.

(3) To get a copy of this service information, contact GROB Luft-und, Raumfahrt, Lettenbachstrasse 9, D86874 tussenhausen Mattsies, Federal Republic of Germany; telephone: +49 8268 998139; facsimile: +49 8268 998200. To review copies of this service information, go to the National Archives and Records Administration (NARA). For information on the availability of this material at NARA, go to: http://www.archives.gov/federal_register/code_of_ federal_regulations/ibr_locations.html or call (202) 741-6030. To view the AD docket, go to the Docket Management Facility; U.S. Department of Transportation, 400 Seventh Street, SW., Nassif Building, Room PL-401, Washington, DC 20590-0001 or on the Internet at http://dms.dot.gov. The docket number is FAA200520768; Directorate Identifier 2005CE16AD.

Issued in Kansas City, Missouri, on April 3, 2006.
John R. Colomy,
Acting Manager, Small Airplane Directorate, Aircraft Certification Service.

[FR Doc. 06-3351 Filed 4-7-06; 8:45 am]

BILLING CODE 4910-13-P